DEPARTMENT OF AGRICULTURE

Animal and Plant Health Inspection Service

9 CFR Part 94

[Docket No. 99-096-2]

Change in Disease Status of Portugal Because of African Swine Fever

AGENCY: Animal and Plant Health Inspection Service, USDA.

ACTION: Affirmation of interim rule as final rule.

SUMMARY: We are adopting as a final rule, without change, an interim rule that amended the regulations governing the importation of pork and pork products by adding Portugal to the list of regions where African swine fever exists. We took this action because there has been an outbreak of African swine fever in Portugal. The interim rule restricted the importation of pork and pork products into the United States from Portugal and was necessary to prevent the introduction of African swine fever into the United States.

EFFECTIVE DATE: The interim rule became effective on November 5, 1999.

FOR FURTHER INFORMATION CONTACT: Dr. Gary Colgrove, Chief Staff Veterinarian, National Center for Import and Export, VS, APHIS, 4700 River Road Unit 38, Riverdale, MD 20737-1231; (301) 734-8364.

SUPPLEMENTARY INFORMATION:

Background

In an interim rule effective November 5, 1999, and published in the Federal Register on December 29, 1999 (64 FR 72912-72913, Docket No. 99-096-2), we amended the regulations governing the importation of pork and pork products by adding Portugal to the list of regions where African swine fever exists. This action restricted the importation of pork and pork products into the United States from Portugal and was necessary to prevent the introduction of African swine fever into the United States.

Comments on the interim rule were required to be received on or before February 28, 2000. We did not receive any comments. Therefore, for the reasons given in the interim rule, we are adopting the interim rule as a final rule.

This action also affirms the information contained in the interim rule concerning Executive Orders 12372 and 12988, and the Paperwork Reduction Act.

Further, for this action, the Office of Management and Budget has waived the review process required by Executive Order 12866.

Regulatory Flexibility Act

This rule affirms an interim rule that amended the regulations governing the importation of pork and pork products by adding Portugal to the list of regions where African swine fever exists. We took this action because of an outbreak of African swine fever in Portugal. The interim rule restricted the importation of pork and pork products into the United States from Portugal and was necessary to prevent the introduction of African swine fever into the United States.

The following analysis addresses the economic effect of this rule on small entities, as required by the Regulatory Flexibility Act.

The interim rule restricts the importation of pork and pork products into the United States from Portugal. Because Portugal has never exported pork or pork products to the United States, this rule will have no economic effect on U.S. swine importers, hog meat processors, hog producers, or any other entities, large or small.

Under these circumstances, the Administrator of the Animal and Plant Health Inspection Service has determined that this action will not have a significant economic impact on a substantial number of small entities.

List of Subjects in 9 CFR Part 94

Animal diseases, Imports, Livestock, Meat and meat products, Milk, Poultry and poultry products, Reporting and recordkeeping requirements.

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

Accordingly, we are adopting as a final rule, without change, the interim rule that amended 9 CFR part 94 and that was published at 64 FR 72912-72913 on December 29, 1999.

Authority: Title IV, Pub. L. 106-224, 114 Stat. 438, 7 U.S.C. 7701-7772; 7 U.S.C. 450; 19 U.S.C. 1306; 21 U.S.C. 111, 114a, 134a, 134b, 134c, 134f, 136, and 136a; 31 U.S.C. 9701; 42 U.S.C. 4331 and 4332; 7 CFR 2.22, 2.80, and 371.4.

Done in Washington, DC, this 22nd day of August 2000.
Bobby R. Acord,
Acting Administrator, Animal and Plant Health Inspection Service.

[FR Doc. 00-21899 Filed 8-25-00; 8:45 am]

BILLING CODE 3410-34-P